DEPARTMENT OF HOMELAND SECURITY

Federal Emergency Management Agency

[Docket ID FEMA-2013-0002; Internal Agency Docket No. FEMA-B-1298]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Mobile | City of Prichard (12-04-4608P) | The Honorable Ron Davis, Mayor, City of Prichard, 216 East Prichard Avenue, Prichard, AL 36610 | City Hall, 216 East Prichard Avenue, Prichard, AL 36610 | http://www.bakeraecom.com/index.php/alabama/mobile/ | April 29, 2013 | 010170
Shelby | City of Alabaster (13-04-0812P) | The Honorable Marty Handlon, Mayor, City of Alabaster, City Hall, 201 1st Street North, Alabaster, AL 35007 | Building Safety Department, 200 Depot Street, Alabaster, AL 35007 | http://www.bakeraecom.com/index.php/alabama/shelby-2/ | May 1, 2013 | 010192
Tuscaloosa | City of Tuscaloosa (12-04-4271P) | The Honorable Walter Maddox, Mayor, City of Tuscaloosa, 2201 University Boulevard, Tuscaloosa, AL 35401 | Engineering Department, 2201 University Boulevard, Tuscaloosa, AL 35401 | http://www.bakeraecom.com/index.php/alabama/tuscaloosa/ | May 10, 2013 | 010203
California:
Riverside | City of Corona (12-09-1650P) | The Honorable Jason Scott, Mayor, City of Corona, 400 South Vicentia Avenue, Corona, CA 92882 | Public Works Department, 400 South Vicentia Avenue, Corona, CA 92882 | http://www.r9map.org/Docs/12-09-1650P-060250-102DA.pdf | May 3, 2013 | 060250
Riverside | City of Indian Wells (12-09-3142P) | The Honorable Douglas H. Hanson, Mayor, City of Indian Wells, 44-950 Eldorado Drive, Indian Wells, CA 92210 | City Hall, 44-950 Eldorado Drive, Indian Wells, CA 92210 | http://www.r9map.org/Docs/12-09-3142P-060254-102DA.pdf | May 2, 2013 | 060254
Riverside | City of Norco (12-09-1650P) | The Honorable Kathy Azevedo, Mayor, City of Norco, 2870 Clark Avenue, Norco, CA 92860 | City Hall, 2870 Clark Avenue, Norco, CA 92860 | http://www.r9map.org/Docs/12-09-1650P-060256-102IAC.pdf | May 3, 2013 | 060256
San Bernardino | City of Victorville (12-09-2880P) | The Honorable Jim Cox, Mayor, City of Victorville, P.O. Box 5001, Victorville, CA 92393 | City Hall, Planning Department, 14343 Civic Drive, Victorville, CA 92393 | http://www.r9map.org/Docs/12-09-2880P-065068-102IAC.pdf | May 3, 2013 | 065068
Colorado:
Mesa | Unincorporated areas of Mesa County (12-08-0541P) | The Honorable Craig J. Meis, Chairman, Mesa County Board of Commissioners, P.O. Box 20000, Grand Junction, CO 81502 | Mesa County Combined Services Department, 200 South Spruce Street, Grand Junction, CO 81501 | http://www.bakeraecom.com/index.php/colorado/mesa/ | May 2, 2013 | 080115
Weld | Town of Frederick (12-08-0198P) | The Honorable Tony Carey, Mayor, Town of Frederick, P.O. Box 435, Frederick, CO 80530 | Planning Department, 401 Locust Street, Frederick, CO 80530 | http://www.bakeraecom.com/index.php/colorado/weld/ | April 15, 2013 | 080244
Weld | Unincorporated areas of Weld County (12-08-0198P) | The Honorable Sean Conway, Chairman, Weld County Board of Commissioners, P.O. Box 758, Greeley, CO 80632 | Weld County Public Works Department, 1111 H Street, Greeley, CO 80632 | http://www.bakeraecom.com/index.php/colorado/weld/ | April 15, 2013 | 080266
Florida:
Broward | Town of Hollywood (12-04-8174P) | The Honorable Peter J. M. Bober, Mayor, City of Hollywood, P.O. Box 229045, Hollywood, FL 33022 | City Hall, 2600 Hollywood Boulevard, Hollywood, FL 33020 | http://www.bakeraecom.com/index.php/florida/broward/ | April 26, 2013 | 125113
Collier | City of Marco Island (12-04-5498P) | The Honorable Joseph R. Batte, Chairman, Marco Island City Council, 50 Bald Eagle Drive, Marco Island, FL 34145 | Planning Department, 50 Bald Eagle Drive, Marco Island, FL 34145 | http://www.bakeraecom.com/index.php/florida/collier/ | May 3, 2013 | 120426
Collier | City of Naples (12-04-5497P) | The Honorable John F. Sorey, III, Mayor, City of Naples, 735 8th Street South, Naples, FL 34102 | Building Department, 295 Riverside Circle, Naples, FL 34102 | http://www.bakeraecom.com/index.php/florida/collier/ | April 19, 2013 | 125130
Lee | Unincorporated areas of Lee County (12-04-7939P) | The Honorable Cecil L. Pendergrass, Chairman, Lee County Board of Commissioners, P.O. Box 398, Fort Myers, FL 33902 | Lee County Community Development Department, 1500 Monroe Street, 2nd Floor, Fort Myers, FL 33901 | http://www.bakeraecom.com/index.php/florida/lee-5/ | May 3, 2013 | 125124
Orange | City of Orlando (12-04-4951P) | The Honorable Buddy Dyer, Mayor, City of Orlando, P.O. Box 4990, Orlando, FL 32808 | Permitting Services Department, 400 South Orange Avenue, Orlando, FL 32301 | http://www.bakeraecom.com/index.php/florida/orange-2/ | May 3, 2013 | 120186
Kentucky:
Anderson | City of Lawrenceburg (12-04-1822P) | The Honorable Edwinna Baker, Mayor, City of Lawrenceburg, P.O. Box 290, Lawrenceburg, KY 40342 | Codes Enforcement Department, 100 North Main Street, Lawrenceburg, KY 40342 | http://www.bakeraecom.com/index.php/kentucky/anderson-3/ | May 8, 2013 | 210003
Fayette | Lexington-Fayette Urban County Government (12-04-4610P) | The Honorable James P. Gray, II, Mayor, Lexington-Fayette Urban County Government, 200 East Main Street, Lexington, KY 40507 | Lexington-Fayette Urban County Government Center, 200 East Main Street, Lexington, KY 40507 | http://www.bakeraecom.com/index.php/kentucky/fayette/ | April 8, 2013 | 210067
Nevada: Clark | Unincorporated areas of Clark County (13-09-0072P) | The Honorable Susan Brager, Chair, Clark County Board of Commissioners, 500 South Grand Central Parkway, Las Vegas, NV 89155 | Public Works Department, 500 South Grand Central Parkway, Las Vegas, NV 89155 | http://www.r9map.org/Docs/13-09-0072P-320003-102IC.pdf | April 1, 2013 | 320003

(Catalog of Federal Domestic Assistance No. 97.022, “Flood Insurance.”)

Roy Wright,
Deputy Associate Administrator for Mitigation, Department of Homeland Security, Federal Emergency Management Agency.

[FR Doc. 2013-05190 Filed 3-5-13; 8:45 am]

BILLING CODE 9110-12-P